DEPARTMENT OF LABOR

Employment and Training Administration

[NAFTA-4778]

Shasta View Produce, Inc., Malin, OR; Notice of Negative Determination Regarding Application for Reconsideration

By application dated August 24, 2001, the company requested administrative reconsideration of the Department's negative determination regarding eligibility to apply for North American Free Trade Agreement-Transitional Adjustment Assistance (NAFTA-TAA), applicable to workers and former workers of the subject firm. The denial notice was signed on July 16, 2001, and was published in the Federal Register on August 6, 2001 (66 FR 41053).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The denial of NAFTA-TAA for workers engaged in activities related to the production of potatoes and potato products at Shasta View Produce, Inc., Malin, Oregon was based on the finding that criteria (3) and (4) of the group eligibility requirements of paragraph (a)(1) of section 250 of the Trade Act, as amended, were not met. There were no company imports of potatoes and potato products from Mexico or Canada, nor did Shasta View Produce, Inc. shift production from Malin, Oregon to Mexico or Canada. Major customers did not import potatoes or potato products from Mexico or Canada during the relevant period.

The petitioner alleges that Canadian imports of potatoes increased significantly. Although the Department examines industry statistics, the Department normally analyzes the impact of imports on the subject firm workers through a survey of declining customers to examine if the firm's domestic customers switched purchases from the subject firm in favor of foreign produced products during the relevant period. The survey conducted by the Department of Labor revealed that the respondents did not import products like and directly competitive with what the subject plant produced. Further, a review of potato imports (like and directly competitive with subject plant products) from Canada shows that imports declined during the relevant period (1999, 2000 and a portion of 2001).

Conclusion

After review of the application and investigative findings, I conclude that there has been no error or misinterpretation of the law or of the facts which would justify reconsideration of the Department of Labor's prior decision. Accordingly, the application is denied.

Signed at Washington, DC, this 4th day of February, 2002.
Edward A. Tomchick,
Director, Division of Trade Adjustment Assistance.

[FR Doc. 02-4735 Filed 2-27-02; 8:45 am]

BILLING CODE 4510-30-M